Title 3—

The President

Proclamation 9606 of May 5, 2017

National Hurricane Preparedness Week, 2017

By the President of the United States of America

A Proclamation

National Hurricane Preparedness Week reminds those of us living in hurricane-prone areas of the need to ready our homes, communities, and families for extreme weather events before hurricane season arrives. Preparing for weather-related disasters can dramatically reduce their impact on you, your family, and your community.

The 2017 hurricane season, which begins June 1 and lasts through November 30, marks the 25th anniversaries of Hurricanes Andrew and Iniki. In August 1992, Hurricane Andrew tore through South Florida before making landfall, again, in Louisiana. It claimed 65 lives, destroyed 25,000 homes, and caused approximately $26 billion in overall damage. A few weeks later, Hurricane Iniki struck the Hawaiian Island of Kauai, killing six, demolishing 1,400 homes, and causing about $1.8 billion in overall damage. The tragic losses caused by those terrible storms remind us of the need to prepare for the destruction hurricanes can bring.

As Hurricane Andrew demonstrated, inland areas are not immune from the destruction hurricanes can bring with them through flooding rains and other related weather events. A National Oceanic and Atmospheric Administration study of Hurricane Andrew revealed that most of the damage it caused was inland from the primary storm surge areas. Just last year, heavy rains from Hurricane Matthew caused destructive flooding and loss of life in the Carolinas, even though the hurricane's eye remained mostly offshore.

This week, through several initiatives, I am encouraging Americans to take the time to prepare for the upcoming hurricane season. After a major disaster, you may not have immediate access to the services you are accustomed to, such as clean water, grocery stores, and emergency services. Hurricane preparedness information provided by the National Weather Service (NWS) and the Ready campaign conducted by the Federal Emergency Management Agency (FEMA), both available online, outline important steps you can take right now to safeguard your family, pets, and property. These resources will help you create evacuation and communications plans and assemble a disaster kit of necessary supplies. Developing and implementing these plans will save lives and avoid excess damage.

NOW, THEREFORE, I, DONALD J. TRUMP, President of the United States of America, by virtue of the authority vested in me by the Constitution and the laws of the United States, do hereby proclaim May 7 through May 13, 2017, as National Hurricane Preparedness Week. I call upon Americans living in hurricane-prone areas to observe this week by making use of the online resources provided by the NWS and FEMA and by taking actions to safeguard their families, homes, and businesses from the dangers of hurricanes. I also call upon Federal, State, local, tribal, and territorial emergency management officials to help inform our communities about hurricane preparedness and response, in order to help prevent storm damage and save lives.

IN WITNESS WHEREOF, I have hereunto set my hand this fifth day of May, in the year of our Lord two thousand seventeen, and of the Independence of the United States of America the two hundred and forty-first.

[FR Doc. 2017-09632

Filed 5-9-17; 11:15 am]

Billing code 3295-F7-P